FARM CREDIT ADMINISTRATION

12 CFR Parts 600 and 604

RIN 3052-AD17

Organization and Functions; Farm Credit Administration Board Meetings

AGENCY: Farm Credit Administration.

ACTION: Notification of effective date.

SUMMARY: The Farm Credit Administration (FCA), on February 5, 2020, issued a final rule amending its regulations to reflect changes in FCA's organizational structure and to correct the mailing address for the McLean office. In accordance the law, the effective date of the rule is no earlier than 30 days from the date of publication in the Federal Register during which either or both Houses of Congress are in session.

DATES: The regulation amending 12 CFR part 600 and 604 published on February 5, 2020 (85 FR 6421) is effective April 1, 2020.

FOR FURTHER INFORMATION CONTACT:

Technical information: Paul K. Gibbs, Associate Director, Office of Regulatory Policy, (703) 883-4203, TTY (703) 883-4056, gibbsp@fca.gov.

Legal information: Autumn R. Agans, Senior Attorney, Office of General Counsel, (703) 883-4020, TTY (703) 883-4056, agansa@fca.gov.

SUPPLEMENTARY INFORMATION: On November 5, 2019, the FCA Board approved an organizational chart that created the Office of Data Analytics and Economics. Further, a street address has been added to 12 CFR 604.425(a) and 604.440, which list the address of the FCA Board.

In accordance with 12 U.S.C. 2252(c)(1), the effective date of the rule is no earlier than 30 days from the date of publication in the Federal Register during which either or both Houses of Congress are in session. Based on the records of the sessions of Congress, the effective date of the regulations is April 1, 2020.

Dated: April 2, 2020.
Dale Aultman,
Secretary, Farm Credit Administration Board.

[FR Doc. 2020-07321 Filed 4-13-20; 8:45 am]

BILLING CODE 6705-01-P